DEPARTMENT OF HEALTH AND HUMAN SERVICES

Health Resources and Services Administration

Council on Graduate Medical Education

AGENCY: Health Resources and Service Administration (HRSA), Department of Health and Human Services (HHS).

ACTION: Notice of meeting.

SUMMARY: In accordance with the Federal Advisory Committee Act, notice is hereby given that a meeting is scheduled for the Council on Graduate Medical Education (COGME). This meeting will be open to the public. Information about COGME and the agenda for this meeting can be obtained by accessing the COGME Web site at http://www.hrsa.gov/advisorycommittees/bhpradvisory/COGME.

DATES: October 20, 2016, 10:00 a.m.-4:30 p.m. ET

ADDRESSES: This meeting will be held by webinar only. Information on connecting to the webinar can be found on the COGME Web site.

FOR FURTHER INFORMATION CONTACT: Anyone requesting information regarding COGME should contact Dr. Kennita Carter, Designated Federal Official, Division of Medicine and Dentistry, Bureau of Health Workforce, HRSA, in one of three ways: (1) Send a request to the following address: Dr. Kennita Carter, Designated Federal Official, Division of Medicine and Dentistry, HRSA, 5600 Fishers Lane, 15N-116, Rockville, Maryland 20857; (2) call 301-945-3505; or (3) send an email to KCarter@hrsa.gov.

SUPPLEMENTARY INFORMATION: COGME provides advice and recommendations to the Secretary of HHS and to Congress on a range of issues including the supply and distribution of physicians in the United States, current and future physician shortages or excesses, foreign medical school graduates, the nature and financing of medical education training, and the development of performance measures and longitudinal evaluation of medical education programs.

During the meeting, COGME members will discuss topics and issues related to the preparation of its 23rd report. COGME's reports are submitted to the Secretary of HHS; the Committee on Health, Education, Labor, and Pensions of the Senate; and the Committee on Energy and Commerce of the House of Representatives.

Members of the public will have the opportunity to provide comments. Oral comments will be honored in the order they are requested and may be limited as time allows. Requests to make oral comments or provide written comments to COGME should be made using the contact address or phone number above by October 13, 2016.

Jason E. Bennett,
Director, Division of the Executive Secretariat.

[FR Doc. 2016-24167 Filed 10-5-16; 8:45 am]

BILLING CODE 4165-15-P